DEPARTMENT OF TRANSPORTATION

Federal Railroad Administration

49 CFR Part 225

[Docket No. FRA-2025-0123]

RIN 2130-AD58

Miscellaneous Amendments to FRA's Accident Reporting Regulations

AGENCY: Federal Railroad Administration (FRA), Department of Transportation (DOT).

ACTION: Notice of proposed rulemaking (NPRM).

SUMMARY: This proposed rule would make various miscellaneous amendments to FRA's accident reporting regulations. Specifically, these amendments would promote submitting documents to FRA electronically, would eliminate redundant regulations, and would allow railroads with additional time to complete certain forms.

DATES: Comments on the proposed rule must be received by September 2, 2025. FRA may consider comments received after that date, but only to the extent practicable.

ADDRESSES:

Comments: Comments related to Docket No. FRA-2025-0123 may be submitted by going to https://www.regulations.gov and following the online instructions for submitting comments.

Instructions: All submissions must include the agency name, docket number (FRA-2025-0123), and Regulatory Identification Number (RIN) for this rulemaking (2130-AD58). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Michael Wissman, Railroad Safety Specialist, Part 225, Federal Railroad Administration, telephone: 610-314-5729, email: michael.wissman@dot.gov; or Michael C. Spinnicchia, Attorney Adviser, Federal Railroad Administration, telephone: 202-713-7671, email: michael.spinnicchia@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of Title 49, Code of Federal Regulations (CFR). The requirements for FRA-regulated entities to report accidents and incidents meeting certain criteria are established in 49 CFR part 225, “Railroad Accidents/Incidents: Reports Classification, and Investigations” (Part 225). Some of the requirements contained in part 225 could be updated to reduce burdens, make technical or conforming changes, or otherwise adjust to advancing technology without any adverse effect on railroad safety. Please review the SECTION-BY-SECTION ANALYSIS below for the relevant information related to each proposed change.

II. Section-by-Section Analysis

Section 225.5 Definitions

Part 225 currently contains separate definitions of “railroad” and “railroad carrier” even though this section states that “railroad” means a railroad carrier and “railroad carrier” means a person providing railroad transportation. Since these two definitions are duplicative, FRA is proposing revising the definition of “railroad” to “a person providing railroad transportation” and removing the definition of “railroad carrier.” Also, since the definition of “highway-rail grade crossing” references “railroad carrier,” FRA is proposing removing the word “carrier” from that definition. Lastly, the definition of “privacy concern case” appears before the definition of “person.” FRA is proposing switching the order of these two definitions so that they are in alphabetical order.

Section 225.6 Consolidated Reporting

FRA proposes to reorganize this section to make it more readable for regulated entities. FRA is also proposing several substantive changes to this section in the interest of efficiency. First, FRA proposes to add paragraph (b)(2) which lists eight factors that railroads should address in their consolidated reporting requests. These are the factors that FRA currently considers when deciding whether to grant such requests. Listing these factors in this section would better inform railroads of what information they should include in their requests. Thus, this proposed change would assist railroads in drafting more well-organized requests and would make it less likely that FRA would have to ask the railroad for additional information. While a railroad does not necessarily have to prove that all eight factors are present for FRA to grant a request, railroads should be aware that the most important factor in FRA's determination is listed in proposed paragraph (b)(2)(i) (whether all of the properties are physically connected and by what means).

Next, paragraph (c) proposes that railroads submit their consolidated reporting requests to FRA via email instead of by mail. The last substantive proposed change is in paragraph (d), which proposes reducing FRA's review period for these requests from 90 days to 60 days. Proposed paragraph (d) notes that FRA's 60-day deadline will be tolled while the agency is waiting for any additional information it requests from the railroad.

Section 225.7 Use of Reports

FRA proposes removing paragraph (a) of this section, as it is redundant of DOT's regulations related to the Freedom of Information Act in 49 CFR part 7. The continued inclusion of paragraph (a) in this section unnecessarily risks confusion. Since this section would no longer address “public examination,” FRA proposes renaming this section title to “Use of reports.” Lastly, FRA proposes to retain the text of paragraph (b) of this section but would remove the paragraph designation and would instead be the only text found in § 225.7.

Section 225.12 Rail Equipment Accident/Incident Reports Alleging Employee Human Factor as Cause; Employee Human Factor Attachment; Notice to Employee; Employee Supplement

FRA proposes revising paragraph (h)(2) of this section to remove the fixed $5,000 fine amount and instead state that such persons be subject to a fine under title 18 of the U.S. code.

Section 225.13 Late Reports

FRA proposes revising this section to instruct railroads to submit their late reports via email.

Section 225.25 Recordkeeping

FRA proposes revising paragraph (f) of this section to allow railroads 15 calendar days (instead of 7 working days) to enter each reportable and accountable injury and illness and each reportable and accountable rail equipment accident/incident on the appropriate record as required by § 225.25(a)-(e). This proposed change would give railroads additional time to ensure the accuracy of the information on these forms.

Lastly, FRA will revise the FRA Guide for Preparing Accident/Incident Reports in accordance with any changes to part 225 finalized in this rulemaking.¹

¹ https://railroads.dot.gov/elibrary/fra-guide-preparing-accidentincident-reports-0.

III. Regulatory Impact and Notices

A. Executive Order (E.O.) 12866 (Regulatory Planning and Review) and DOT Regulatory Policies and Procedures

FRA has considered the impact of this NPRM under E.O. 12866 (58 FR 51735, Oct. 4, 1993), Regulatory Planning and Review, and DOT Regulatory Policies and Procedures. The Office of Information and Regulatory Affairs within the Office of Management and Budget (OMB) determined that this NPRM is not a significant regulatory action under section 3(f) of E.O. 12866.

FRA analyzed the potential costs and benefits of this proposed rule. Because this proposed rule makes administrative changes such as revising definitions, allowing railroads to submit information to FRA electronically, and lists suggesting factors to be included in consolidated reporting requests, this final rule imparts minimal to no additional burdens on regulated entities. Moreover, this proposed rule would provide some qualitative benefits to regulated entities and the U.S. government by clarifying, simplifying, and updating the language of part 225. This rule would also provide flexibility to regulated entities by increasing the time given to railroads for completing certain forms from 7 working days to 15 calendar days. Additionally, this rule would expedite the speed at which documents are delivered while reducing costs that would otherwise exist from having to physically print, mail, and process documents.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ² Implementation guidance for E.O. 14192 issued by OMB (Memorandum M-25-20, March 26, 2025) defines two different types of E.O. 14192 actions: an E.O. 14192 deregulatory action, and an E.O. 14192 regulatory action.³

² Executive Office of the President. Executive Order 14192 of January 31, 2025. Unleashing Prosperity Through Deregulation. 90 FR 9065-9067 (Feb. 6, 2025).

³ Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero, and therefore it would be considered an E.O. 14192 deregulatory action upon issuance of a final rule. While FRA affirms that each amendment proposed in this NPRM has a cost that is negligible or “less than zero” consistent with E.O. 14192, FRA still requests comment on the extent of the cost savings for the changes proposed in this NPRM.

C. Regulatory Flexibility Act and E.O. 13272

The Regulatory Flexibility Act (5 U.S.C. 601 et seq.), as amended by the Small Business Regulatory Enforcement Fairness Act of 1996,⁴ requires Federal agencies to consider the effects of the regulatory action on small business and other small entities and to minimize any significant economic impact. Accordingly, DOT policy requires an analysis of the impact of all regulations on small entities, and mandates that agencies strive to lessen any adverse effects on these businesses. The term small entities comprises small businesses and not-for-profit organizations that are independently owned and operated and are not dominant in their fields, and governmental jurisdictions with populations of less than 50,000 (5 U.S.C. 601(6)).

⁴ Public Law 104-121, 110 Stat. 857 (Mar. 29, 1996).

No regulatory flexibility analysis is required, however, if the head of an Agency or an appropriate designee certifies that the rule will not have a significant economic impact on a substantial number of small entities. This proposed rule may impart minimal additional burden under part 225, but overall would provide greater relief to railroads. This proposed rule offers flexibilities that would result in cost savings. By extending this regulatory relief, many regulated entities, including small entities, would experience a cost savings. Consequently, FRA certifies that the proposed action would not have a significant economic impact on a substantial number of small entities.

In accordance with section 213(a) of the Small Business Regulatory Enforcement Fairness Act of 1996 (Pub. L. 104-121, 110 Stat. 857), FRA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

D. Paperwork Reduction Act

This proposed rule offers regulatory flexibilities, and there are no new collection of information requirements contained in this proposed rule, in accordance with the Paperwork Reduction Act of 1995 (44 U.S.C. 3501-3520). The recordkeeping and reporting requirements already contained in part 225 were approved by the Office of Management and Budget (OMB) on December 5, 2023, and the information collection requirements thereby became effective when they were approved by OMB. The OMB approval number is 2130-0500, and OMB approval expires on December 31, 2026.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This proposed rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This proposed rule would not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211 requires Federal agencies to prepare a Statement of Energy Effects for any “significant energy action.” ⁵ FRA has evaluated this proposed rule in accordance with E.O. 13211 and determined that this proposed rule is not a “significant energy action” within the meaning of E.O. 13211.

⁵ 66 FR 28355 (May 22, 2001).

I. E.O. 13175 (Tribal Consultation)

FRA has evaluated this proposed rule in accordance with the principles and criteria contained in E.O. 13175, Consultation and Coordination with Indian Tribal Governments, dated November 6, 2000. The proposed rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 ⁶ prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

⁶ 19 U.S.C. Ch. 13.

K. Privacy Act Statement

In accordance with 5 U.S.C. 553(c), DOT solicits comments from the public to better inform its rulemaking process. DOT posts these comments, without edit, to http://www.regulations.gov, as described in the system of records notice, DOT/ALL-14 FDMS, accessible through www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

L. Rulemaking Summary

As required by 5 U.S.C. 553(b)(4), a summary of this rule can be found at regulations.gov, Docket No. FRA-2025-0123, in the SUMMARY section of this proposed rule.

List of Subjects in 49 CFR Part 225

Investigations, Penalties, Railroad safety, Reporting and recordkeeping requirements.

The Proposed Rule

For the reasons discussed in the preamble, FRA proposes to amend part 225 of chapter II, subtitle B of title 49, Code of Federal Regulations as follows:

PART 225—RAILROAD ACCIDENTS/INCIDENTS: REPORTS CLASSIFICATION, AND INVESTIGATIONS

1. The authority citation for part 225 continues to read as follows:

Authority: 49 U.S.C. 103, 322(a), 20103, 20107, 20901-20902, 21301, 21302, 21311; 28 U.S.C. 2461 note; and 49 CFR 1.89.

2. Revise § 225.5 by putting the definition for “privacy concern case” after the definition of “person,” removing the word “carrier” from paragraph (2) under the definition of “highway-rail grade crossing,” removing the definition of “railroad carrier,” and revising the definition of “railroad” to read as follows:

§ 225.5 Definitions.

* * * * *

Railroad means a person providing railroad transportation.

* * * * *

3. Revise § 225.6 to read as follows:

§ 225.6 Consolidated reporting.

(a) A parent corporation may request in writing that FRA treat its commonly controlled railroads, which operate as a single, seamless, integrated United States rail system, as a single railroad for purposes of this part.

(b) The written request must include all of the following:

(1) A list of the subsidiary railroads controlled by the parent corporation.

(2) An explanation as to how the subsidiary railroads operate as a single, seamless, integrated United States railroad system as opposed to separate and independent entities. This explanation should address factors such as:

(i) Whether all of the properties are physically connected, and by what means (i.e., is the track contiguous, are the properties connected by track rights);

(ii) Whether the parent and its subsidiaries are held out to the public as a single entity;

(iii) Whether the parent is involved in the decision-making of its subsidiaries, and to what extent;

(iv) Whether the parent and/or subsidiaries share officers, equipment, and/or other personnel;

(v) Whether the operation of trains and crews are seamless, as trains and crews move over various properties with most employees unaware that they have changed property owners;

(vi) Whether there is a single set of operating rules over all of the properties (there may be different signal and train control systems);

(vii) Whether there is a single Internal Control Plan or a single reporting or claims officer; and

(viii) Whether there is a single dispatching center.

(3) Supporting evidence or documentation, to the extent reasonably practicable, to support the parent corporation's assertion that the subsidiary railroads operate as a single, seamless, integrated railroad system. If it is not practical to submit documentation for certain factors, the parent corporation should identify the location of the supporting evidence.

(4) A point of contact at the parent corporation and all subsidiary railroads to address agency questions related to the consolidated reporting petition.

(c) The request must be sent via email to RsisAiReports@dot.gov. Each request received shall be acknowledged in writing via email and shall contain the docket number assigned to the request.

(d) FRA will notify the applicant parent corporation of the agency's decision within 60 days of receipt of the application. This deadline will be tolled pending any FRA requests to the parent corporation or subsidiary railroads for missing or additional information needed for the agency to reach a decision.

(e) If FRA approves the request, the parent corporation must enter into a written agreement with FRA specifying which subsidiaries are included in its railroad system, agreeing to assume responsibility for compliance with this part for all named subsidiaries making up the system, and consenting to guarantee any monetary penalty assessments or other liabilities owed to the United States government that are incurred by the named subsidiaries for violating Federal accident/incident reporting requirements. Any change in the subsidiaries making up the railroad system requires immediate notification to FRA and execution of an amended agreement. Executed agreements will be published in the docket for the petition.

4. Revise and republish § 225.7 to change the title to “Use of reports,” and remove paragraph (a), to read as follows:

§ 225.7 Use of reports.

49 U.S.C. 20903 provides that monthly reports filed by railroads under § 225.11 may not be admitted as evidence or used for any purpose in any action for damages growing out of any matters mentioned in these monthly reports. The Employee Human Factor Attachment, Notice, and Employee Supplement under § 225.12 are part of the reporting railroad's accident report to FRA pursuant to 49 U.S.C. 20901 and, as such, shall not “be admitted as evidence or used for any purpose in any suit or action for damages growing out of any matter mentioned in said report * * *.” 49 U.S.C. 20903.

5. Revise § 225.12(h)(2) to read as follows:

§ 225.12 Rail Equipment Accident/Incident Reports alleging employee human factor as cause; Employee Human Factor Attachment; notice to employee; employee supplement.

* * * * *

(h) * * *

(2) Any person who knowingly and willfully files a false Supplement is subject to a fine under title 18 of the U.S. Code, imprisonment for up to two years, or both, in accordance with 49 U.S.C. 21311(a).

6. In § 225.13, revise the first sentence to read as follows:

§ 225.13 Late reports.

Whenever a railroad discovers that a report of an accident/incident, through mistake or otherwise, has been improperly omitted from or improperly reported on its regular monthly accident/incident report, a report covering this accident/incident together with a letter of explanation must be submitted immediately by email to RsisAiReports@dot.gov.

* * * * *

7. In § 225.25(f), replace “seven working days” with “15 calendar days”.

Issued in Washington, DC.
Kyle D. Fields,
Chief Counsel.

[FR Doc. 2025-12179 Filed 6-27-25; 4:15 pm]

BILLING CODE 4910-06-P